DEPARTMENT OF LABOR

Occupational Safety and Health Administration

29 CFR Part 1910

[Docket No. OSHA-2008-0012]

RIN 1218-AC40

Tree Care Operations

AGENCY: Occupational Safety and Health Administration (OSHA), Department of Labor.

ACTION: Notice of stakeholder meeting.

SUMMARY: OSHA invites interested parties to participate in an informal stakeholder meeting concerning tree care operations on July 13, 2016, in Washington, DC. This meeting is a continuation of OSHA's information collection on tree care operations. OSHA plans to use the information gathered at this meeting, together with other information in the record, to explore the possible development of a proposed standard to protect workers from hazards, fatalities, and injuries in tree care operations.

DATES: Stakeholder meeting: The stakeholder meeting will be from 9 a.m. to 5 p.m., Tuesday, July 13, 2016.

Deadline for registering to participate in or observe the stakeholder meeting: You must submit (postmark, send, transmit) your registration by Friday, July 1, 2016. If space remains after the deadline, OSHA may allow additional participants and observers. Individuals who submit their registration after July 1, 2016, may not receive confirmation from OSHA and should contact Ms. Amy Wangdahl (see FOR FURTHER INFORMATION CONTACT) to confirm space is available.

ADDRESSES: Stakeholder meeting: The stakeholder meeting will be held in Room C-5515-1A/1B, U.S. Department of Labor, 200 Constitution Avenue NW., Washington, DC 20210.

Registration to participate in or observe the stakeholders meeting: Submit your registration to participate in or observe the stakeholder meeting using one of the methods below:

Electronic: Register at: https://projects.erg.com/conferences/osha/register-osha-tree-meeting.htm. (Follow the instructions online.)

Facsimile: Fax your request to (202) 693-1663, labeled “Attention: Tree Care Operations Stakeholder Meeting Registration.”

Regular mail, express delivery, hand (courier) delivery, and messenger service: Submit your registration to OSHA Tree Care Operations Stakeholder Meeting Registration, Attention: Ms. Amy Wangdahl, OSHA, Room N-3621, 200 Constitution Avenue NW., Washington, DC 20210. Due to security related procedures, receipt of registration by regular mail may experience significant delays.

For additional information about registering for the stakeholder meeting see the SUPPLEMENTARY INFORMATION section of this notice.

Electronic copies of this Federal Register notice are available at: http://www.regulations.gov. This notice, as well as news releases and other relevant information, also are available on the OSHA Web page at: http://www.osha.gov.

FOR FURTHER INFORMATION CONTACT:

Press inquiries: Mr. Frank Meilinger, Director, OSHA Office of Communications, Room N-3647, U.S. Department of Labor, 200 Constitution Avenue NW., Washington, DC 20210; telephone: (202) 693-1999; email: meilinger.francis2@dol.gov.

General and technical information: Ms. Amy Wangdahl, Director, Office of Maritime and Agriculture, OSHA Directorate of Standards and Guidance, Room N-3621, U.S. Department of Labor, 200 Constitution Avenue NW., Washington, DC 20210; telephone: (202) 693-2066, email: wangdahl.amy@dol.gov.

SUPPLEMENTARY INFORMATION:

I. Background

Tree care operations, such as tree trimming and removal, expose workers to a number of dangerous hazards. These dangers include falling from trees or aerial equipment; being hit by falling trees/branches, flying objects and vehicular traffic; being cut by high-speed chain saws and chippers; and coming into contact with energized power lines. The hazards present in tree care operations have resulted in many fatalities and serious injuries, such as falls, being struck by falling objects, and electrocutions. On December 8, 2008, OSHA issued an Advanced Notice of Proposed Rulemaking (ANPR) seeking information on tree care operations (73 FR 54118 (9/18/2008), Docket No. OSHA-2008-0012). The Agency requested data, information, and comment on the hazards present in tree care operations as well as the measures to control those hazards and reduce the high rate of incidents, injuries, and fatalities. OSHA received 69 comments in response to the ANPR.

Based upon those responses, other information in the record and a review of data and scientific literature, OSHA is considering what action, if any, the Agency should take to control hazards related to tree care operations. One option the Agency is considering is developing a standard to eliminate or reduce workers' exposure to hazards when they perform tree care tasks such as trimming and removing branches and trees; using tree care equipment (e.g., chain saws, chippers, ladders) and vehicles (e.g., bucket trucks, aerial lifts); removing tree stumps; and disposing of branches, brush and trees.

The Agency believes that an informal discussion with a diverse range of stakeholders (e.g., employers, tree care companies, workers, labor organization, tree care and arboriculture organizations, occupational safety and health professionals, equipment manufacturers, government, the public) would be beneficial in determining how to proceed in eliminating and reducing hazards in tree care operations.

II. Stakeholder Meeting

The stakeholder meeting will be interactive group discussions on participants' views, concerns, and issues on tree care hazards and how best to control them. To encourage as much group interaction as possible, formal presentations by stakeholders will not be permitted.

The stakeholder meeting discussions will center on a variety of tree care topics, including fall, struck-by (e.g., falling branches/trees, vehicular traffic) and electrical hazards; climbing and working in trees; tree trimming and removal; rigging; personal protection equipment (PPE); safe use of tools, equipment, machines and vehicles; effective engineering and work practice controls; and medical service and first aid. The stakeholder meeting also will include in-depth discussions on specific issues, such as the following:

• Fatalities and injuries: As mentioned, fatalities in tree care operations primarily result from falls, being struck by falling objects or vehicles, and electrocutions. What are the primary causes, circumstances and factors that have led to those and other types of fatalities and injuries in your company and in the tree care industry? What actions does your company take when an accident, fatality or injury occurs (e.g., accident review, job hazard analysis, safety meetings, training)?

• New technology in the tree care industry: What new technology, equipment, machines, vehicles and work practices are currently being used in the tree care industry? What new technology has your company found to be effective in controlling hazards and preventing tree care workers from being killed or injured?

• National consensus and State Plan State standards: ANSI standards applicable to tree care operations include ANSI Z133 Safety Requirements for Arboricultural Operations and the ANSI A300 Standards for tree care operations. In addition, five states have issued standards on tree care operations: California, Maryland, Michigan, Oregon, and Virginia. What provisions and requirements in these state standards has your company found to be particularly effective in controlling and preventing hazards in tree care operations, and which provisions/requirements should OSHA consider?

• Vehicles and mobile equipment: To what extent and frequency does your company and the tree care industry now use vehicles and mobile equipment (e.g., bucket trucks, aerial lifts, cranes) to perform tree care operations? What are the best practices for, as well as concerns with, using vehicles and mobile equipment in tree care operations? What controls (e.g., engineering controls, PPE) and safety practices has your company implemented to protect workers operating and working on and near vehicles and mobile equipment?

• Information and training. What occupational safety and health information and training does your company or the tree care industry provide to workers? What topics does the training cover? What does your company do to ensure workers understand the information and training? For example, how do you communicate information so temporary workers, non-English speaking workers, and workers with limited literacy understand it?

III. Public Participation

The stakeholder meeting will accommodate approximately 30 participants. In addition, as space permits, interested persons may observe, rather than participate in, the meeting. To participate in or observe the stakeholder meeting you must register electronically, by facsimile, or by hard copy. To receive confirmation to participate in or observe the meeting, register as soon as possible and by July 1, 2016. If space is still available after that date, registration for participating in or observing the meeting will remain open. However, late registrants may not receive confirmation and should contact Ms. Wangdahl to confirm that space is available. As space permits, OSHA will accommodate observers who do not register for the meeting.

To register electronically, follow the instructions provided on the Web site. To register by hard copy or facsimile, please provide the following information:

• Name;

• Professional Title;

• Organization for which you work or represent;

• Address;

• Phone;

• Email address;

• The interest you represent (e.g., tree care employer/company; worker; labor organization; trade or professional association/organization; insurance company; manufacturer; government; public).

• The type of participation: Participant at the main table (“I will actively discuss topics that come up”); observer making comments (“I may have limited comments on one or more key areas”); observer only (“I will not be speaking”); Press.

• If necessary, OSHA may select participants in order to ensure the meeting includes a fair representation of interests and diverse viewpoints. OSHA staff will participate in discussions with the stakeholder participants and Eastern Research Group (ERG), Inc., will facilitate the meeting. In addition, ERG will compile notes summarizing the stakeholder discussions, but the notes will not identify participants by name. ERG also will make an audio recording solely for the purpose of ensuring the accuracy of the summary notes. The recording will not be transcribed or put in the public docket. The summary notes will be posted in the Tree Care Operations docket (Docket No. OSHA-2008-0012) and will be available at http://www.regulations.gov, the Federal eRulemaking Portal.

Electronic copies of this Federal Register notice, as well as news releases and other relevant documents, are available on the OSHA Web page at: http://www.osha.gov.

Authority and Signature

This document was prepared under the direction of David Michaels, Ph.D., MPH, Assistant Secretary of Labor for Occupational Safety and Health, and under authority granted by 29 U.S.C. 651, 653, and 655; Secretary of Labor's Order No. 1-2012 (77 FR 3912); and 29 CFR part 1911.

Signed at Washington, DC, on June 6, 2016.
David Michaels,
Assistant Secretary of Labor for Occupational Safety and Health.

[FR Doc. 2016-13844 Filed 6-10-16; 8:45 am]

BILLING CODE 4510-26-P